DEPARTMENT OF AGRICULTURE

Food Safety and Inspection Service

[Docket No. 03-016N]

Codex Alimentarius Commission: 3rd Session of the Codex Ad Hoc Intergovernmental Task Force on Fruit and Vegetable Juices

AGENCY: Food Safety and Inspection Service, USDA.

ACTION: Notice of public meeting, request for comments.

SUMMARY: The Office of the Under Secretary for Food Safety, United States Department of Agriculture, and the Food And Drug Administration (FDA) are sponsoring a public meeting on April 24, 2003, to provide information and receive public comments on agenda items that will be discussed at the Codex Ad Hoc Intergovernmental Task Force on Fruit and Vegetable Juices taking place in Salvador, Bahia, Brazil, on May 5-9, 2003. The Under Secretary and FDA recognize the importance of providing interested parties the opportunity to obtain background information, including draft U.S. positions on agenda items for the Third Session of the Ad Hoc Intergovernmental Task Force on Fruit and Vegetable Juices of the Codex Alimentarius Commission (Codex) and to address items on the Agenda for the 3rd Session.

DATES: The public meeting is scheduled for Thursday, April 24, 2003, from 1 p.m. to 3 p.m.

ADDRESSES: The public meeting will be held in Room 1B-042 , Harvey W. Wiley Federal Building, 5100 Paint Branch Parkway, College Park, MD. To receive copies of the documents referenced in the notice contact the FSIS Docket Room, U.S. Department of Agriculture, Food Safety and Inspection Service, Room 102, Cotton Annex, 300 12th Street, SW., Washington, DC 20250-3700. The documents will also be accessible via the World Wide Web at the following address: http://www.codexalimentarius.net/current.asp. If you have comments, please send an original and two copies to the FSIS Docket Room and reference Docket #03-016N. All comments submitted will be available for public inspection in the Docket Clerk's Office between 8:30 a.m. and 4:30 p.m., Monday through Friday.

FOR FURTHER INFORMATION CONTACT: Edith Kennard, U.S. Codex Office, Food Safety and Inspection Service, Room 4861, South Building, 1400 Independence Avenue, SW., Washington, DC 20250, Phone: (202) 205-7760, Fax: (202) 720-3157.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex.

The Codex Ad Hoc Intergovernmental Task Force on Fruit and Vegetable Juices is tasked with revising and consolidating the existing Codex standards and guidelines for fruit and vegetable juices and related products. It is also tasked with revising and updating the methods of analysis and sampling for these products. The Committee is chaired by Brazil.

Issues To Be Discussed at the Public Meeting

The provisional agenda items and draft U.S. positions will be discussed during the public meeting:

1. Adoption of the Agenda;

2. Matters referred by the Codex Alimentarius Commission and other Codex Committees;

3. Consideration of Proposed Draft Standards:

a. Proposed draft Codex General Standard for Fruit Juices and Nectars;

b. Proposed Draft Revised Codex Standard for Vegetable Juices.

Each issue listed will be fully described in documents distributed, or to be distributed, by the Brazilian Secretariat to the Meeting. Members of the public may access or request copies of these documents (see ADDRESSES).

Public Meeting

At the April 24th public meeting, the agenda items will be described, discussed, and attendees will have the opportunity to pose questions and offer comments. Written comments may be offered at the meeting or sent to the FSIS Docket Room (see ADDRESSES). Written comments should state that they relate to activities of the 3rd Session of the Codex Ad Hoc Governmental Task Force on Fruit and Vegetable Juices.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC, on April 17, 2003.
F. Edward Scarbrough,
U.S. Manager for Codex Alimentarius.

[FR Doc. 03-10109 Filed 4-23-03; 8:45 am]

BILLING CODE 3410-DM-P